ENVIRONMENTAL PROTECTION AGENCY

[FRL-10015-01-R5]

Proposed CERCLA Administrative Settlement Agreement for Crest Rubber Superfund Site, Alliance, Ohio

AGENCY: Environmental Protection Agency (EPA).

ACTION: Notice of proposed settlement agreement and request for public comments.

SUMMARY: The Environmental Protection Agency (EPA) is giving notice of a proposed administrative settlement for recovery of past response costs concerning the Crest Rubber Superfund Site in Alliance, Ohio with Chemionics Corporation. The EPA invites written public comments on the Settlement for thirty (30) days following publication of this notice. The settlement requires the settling party to pay $355,000 to the Hazardous Substance Superfund.

DATES: Comments must be received on or before August 17, 2022.

ADDRESSES: The proposed settlement and related documents can be viewed at the Superfund Records Center (SRC-7J), United States Environmental Protection Agency, Region 5, 77 W Jackson Blvd., Chicago, IL 60604, (312) 886-4465 and on-line at https://response.epa.gov/CrestRubberAlliance.

You may send comments, referencing the Crest Rubber Superfund Site in Alliance, Ohio and identified by Docket ID No. V-W-22-C-006, to the following address: Milagros Bensing, Superfund & Emergency Management Division (SE-5J), U.S. Environmental Protection Agency, Region 5, 77 West Jackson Boulevard, Chicago, Illinois 60604-3590.

FOR FURTHER INFORMATION CONTACT: Naeha Dixit, Office of Regional Counsel (C-14J), United States Environmental Protection Agency, Region 5, 77 West Jackson Boulevard, Chicago, Illinois 60604. Naeha Dixit may be reached by telephone at (312) 353-5524 or via electronic mail at Dixit.Naeha@epa.gov.

SUPPLEMENTARY INFORMATION:

I. Background Information

In accordance with Section 122(i) of the Comprehensive Environmental Response, Compensation, and Liability Act, as amended, 42 U.S.C. 9622(i), notice is hereby given of a proposed administrative settlement for recovery of past response costs concerning the Crest Rubber Site in Alliance, Ohio with Chemionics Corporation. EPA completed a removal action at the Site that began on May 15, 2017. The Site is located in an industrial/commercial area and is approximately 3.6 acres in size. The settlement requires the settling party to pay $355,000 to the Hazardous Substance Superfund. The settlement includes a covenant not to sue the settling party pursuant to Section 107(a) of CERCLA, 42 U.S.C. 9607(a).

II. Opportunity To Comment

A. General Information

For thirty (30) days following the date of publication of this notice, the Agency will receive written comments relating to the Settlement. The Agency will consider all comments received and may modify or withdraw its consent to the Settlement if comments received disclose facts or considerations which indicate that the Settlement is inappropriate, improper, or inadequate.

B. Where do I send my comments or view responses?

Your comments should be mailed to Cheryl McIntyre, Superfund & Emergency Management Division (SE-5J), U.S. Environmental Protection Agency, Region 5, 77 West Jackson Boulevard, Chicago, Illinois 60604-3590. Be sure to label the comments with the Docket Number at the top of this notice and/or the property name. The Agency's response to any comments received will be available for public inspection at the Superfund Records Center.

C. What should I consider as I prepare my comments for EPA?

1. Submitting Confidential Business Information (CBI). Do not submit ANY information you think or know is CBI to EPA through an agency website or via email. Clearly mark on your written comments all the information that you claim to be CBI. If you mail EPA your comments on a disk or CD-ROM (CD), mark the outside of the CD as CBI and then identify electronically within the CD the specific information that is claimed as CBI. In addition to one complete version of your comments that includes all the information claimed as CBI, you must submit for inclusion in the public docket a second copy of your comments that does not contain the information claimed as CBI. Information marked as CBI will not be disclosed except in accordance with procedures set forth in 40 CFR part 2.

2. Tips for Preparing Your Comments. When submitting comments, remember to:

• Identify the subject of your comments by the docket number and the site name in the title of this notice or the Federal Register publication date and page number.

• Follow directions—the agency may ask you to respond to specific questions or organize comments by referencing a Code of Federal Regulations (CFR) part or section number.

• Explain why you agree or disagree with the terms of the Settlement; suggest alternatives and substitute language for your requested changes.

• Describe any assumptions and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the identified comment period deadline.

Dated: July 11, 2022.
Douglas Ballotti,
Director, Superfund & Emergency Management Division.

[FR Doc. 2022-15241 Filed 7-15-22; 8:45 am]

BILLING CODE 6560-50-P